NATIONAL FOUNDATION ON THE ARTS AND HUMANITIES

National Endowment for the Humanities

45 CFR Part 1177

RIN 3136-AA38

Claims Collection; Correction

AGENCY: National Endowment for the Humanities; National Foundation on the Arts and the Humanities.

ACTION: Direct final rule; correction.

SUMMARY: The National Endowment for the Humanities (NEH) is correcting a direct final rule that published November 24, 2021, in the Federal Register. The final rule revised the NEH Claims Collection regulation in accordance with the Debt Collection Improvement Act of 1996 (DCIA), as implemented by the Department of Justice (DOJ) and the Department of Treasury (Treasury) in the revised Federal Claims Collection Standards (FCCS). NEH discovered two errors after publications that could cause confusion and is correcting those errors in this document.

DATES: Effective February 22, 2022.

FOR FURTHER INFORMATION CONTACT: Elizabeth Voyatzis, Deputy General Counsel, Office of the General Counsel, National Endowment for the Humanities, 400 7th Street SW, Room 4060, Washington, DC 20506; (202) 606-8322; gencounsel@neh.gov.

SUPPLEMENTARY INFORMATION: In FR Doc. 2021-23742, appearing in the Federal Register of November 24, 2021, starting on page 66964, make the following corrections:

§ 1177.9 [Corrected]

1. On page 66967, in the second column, designate the second paragraph (e) as paragraph (f).

§ 1177.24 [Corrected]

2. On page 66973 in the first column, correct the paragraph designations “a.” and “b.” to read as “(a)” and “(b)”.

Authority: 31 U.S.C. 3711, 3716-3719; Pub. L. 104-134; 31 CFR 900-904.

Dated: December 3, 2021.
Samuel Roth,
Attorney-Advisor, National Endowment for the Humanities.

[FR Doc. 2021-26606 Filed 12-7-21; 8:45 am]

BILLING CODE 7536-01-P